DEPARTMENT OF STATE

[Public Notice 11081]

Notice of Department of State Sanctions Actions on March 17, 2020 Pursuant to Executive Order 13894 of October 14, 2019, Blocking Property and Suspending Entry of Certain Persons Contributing to the Situation in Syria

SUMMARY: The Secretary of State imposed sanctions on one individual on March 17, 2020 pursuant to E.O. 13894, Blocking Property and Suspending Entry of Certain Persons Contributing to the Situation in Syria.

DATES: The Secretary of State's determination and selection of certain sanctions to be imposed upon the one individual identified in the SUPPLEMENTARY INFORMATION section were effective on March 17, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 2(a) of E.O. 13894, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in section 2(c) of E.O. 13894 upon determining that the person met any criteria set forth in section 2(a)(i)(A) of E.O. 13894.

In an action on March 17, 2020, the Secretary of State determined, pursuant to Section 2(a)(i)(A) of E.O. 13894, that Syrian Defense Minister Ali Abdullah Ayoub is responsible for or complicit in, has directly or indirectly engaged in, attempted to engage in, or financed, the obstruction, disruption, or prevention of a ceasefire in northern Syria.

Pursuant to Section 2(c) of E.O. 13894, the Secretary of State selected the following sanctions to be imposed upon Ali Abdullah Ayoub:

• Prohibit any United States financial institution that is a U.S. person from making loans or providing credits to Ali Abdullah Ayoub totaling more than $10,000,000 in any 12-month period, unless Ali Abdullah Ayoub is engaged in activities to relieve human suffering and the loans or credits are provided for such activities (Section 2(c)(i) of E.O. 13894)

• prohibit any transactions in foreign exchange that are subject to the jurisdiction of the United States and in which Ali Abdullah Ayoub has any interest (Section 2(c)(ii) of E.O. 13894);

• prohibit any transfers of credit or payments between banking institutions or by, through, or to any banking institution, to the extent that such transfers or payments are subject to the jurisdiction of the United States and involve any interest of Ali Abdullah Ayoub (Section 2(c)(iii) of E.O. 13894);

• block all property and interests in property that are in the United States, that hereafter come within the United States, or that are or hereafter come within the possession or control of any United States person of Ali Abdullah Ayoub, and provide that such property and interests in property may not be transferred, paid, exported, withdrawn, or otherwise dealt in (Section 2(c)(iv) of E.O. 13894);

• prohibit any United States person from investing in or purchasing significant amounts of equity or debt instruments of Ali Abdullah Ayoub (Section 2(c)(v) of E.O. 13894);

• restrict or prohibit imports of goods, technology, or services, directly or indirectly, into the United States from Ali Abdullah Ayoub (Section 2(c)(vi) of E.O. 13894).

Taylor V. Ruggles,
Director, Office of Economic Sanctions Policy and Implementation, Bureau of Economic and Business Affairs, Department of State.

[FR Doc. 2020-13722 Filed 6-24-20; 8:45 am]

BILLING CODE 4710-07-P